DEPARTMENT OF HEALTH AND HUMAN SERVICES

Substance Abuse and Mental Health Services Administration

Request for Information; Potential Changes to its Evidence-Based Practices Resource Center; Notice of Correction

AGENCY: Substance Abuse and Mental Health Services Administration, HHS.

ACTION: Notice; correction.

SUMMARY: The Substance Abuse and Mental Health Services Administration published a document in the Federal Register of September 7, 2023, announcing a Notice of request for information (RFI). The document contained incorrect date in the DATES section.

FOR FURTHER INFORMATION CONTACT: Carter A Roeber, Telephone number (240) 276-1488, Email: Carter.Roeber@samhsa.hhs.gov, or EBPRC@samhsa.hhs.gov.

SUPPLEMENTARY INFORMATION:

Correction

In the Federal Register of September 7, 2023, in FR Doc. 2023-19272, on pages 61608 and 61609, in the second column, correct the DATES caption to read:

Comments or feedback on this notice must be received by end of business day, November 7, 2023.

Dated: October 11, 2023.
Carlos Castillo,
Committee Management Officer.

[FR Doc. 2023-22792 Filed 10-13-23; 8:45 am]

BILLING CODE 4162-20-P